DEPARTMENT OF THE INTERIOR

National Park Service

[NPS-WASO-NAGPRA-20161; PPWOCRADN0-PCU00RP14.R50000]

Notice of Inventory Completion: U.S. Department of Defense, Department of the Navy, Washington, DC

AGENCY: National Park Service, Interior.

ACTION: Notice.

SUMMARY: The U.S. Department of Defense, Department of the Navy (DoN) has completed an inventory of human remains, in consultation with the Aleut Corporation, representatives of the Aleut Repatriation Committee, and the Cultural Heritage Director of the Aleutian/Pribilof Islands Association, Inc., as agents for the Native Village of Atka, AK, and has determined that there is a cultural affiliation between the human remains and members of the Native Village of Atka. Lineal descendants or representatives of any Indian tribe or Native Hawaiian organization not identified in this notice that wish to request transfer of control of these human remains should submit a written request to the DoN. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the DoN at the address in this notice by March 21, 2016.

ADDRESSES: Dr. Susan S. Hughes, Archaeologist, Department of the Navy, NAVFAC NW, 1101 Tautog Circle, Silverdale, WA 98315, telephone (360) 396-0083, email susan.s.hughes@navy.mil.

SUPPLEMENTARY INFORMATION: Notice is hereby given in accordance with the Native American Graves Protection and Repatriation Act (NAGPRA), 25 U.S.C. 3003, of the completion of an inventory of human remains under the control of the DoN. The human remains were removed from the island of Attu, AK, in the Aleutian Islands.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the DoN professional staff in consultation with the Aleut Corporation, the Aleut Repatriation Committee, and the Cultural Heritage Director of the Aleutian/Pribilof Islands Association, Inc., as agents for the Native Village of Atka, AK.

History and Description of the Remains

In 1943, human remains representing, at minimum, one individual were removed from Attu Island, at the western end of the Aleutian Islands, AK. The human remains, a skull and associated mandible, came into the possession of William J. Madden II, Senior Medical Officer at the U.S. Naval Aerological Station, Attu, where they were used as an aid in the study of human skull anatomy. In a letter dated May 14, 1948, Dr. Madden states that the human remains were recovered by a civilian construction company while engaged in building a Coast Guard Station on Attu. A historic account of the Coast Guard construction of the Western Aleutian island chain (The Coast Guard at War: IV Loran Volume I Section III, Chapter 3) suggests that the skull may have come from an archeological site at Baxter Bay.

After the Battle of Attu in the spring of 1943, a U.S.C.G. LORAN Station was built on Attu. A construction party arrived in November of 1943, and began construction of the first LORAN station at Attu on Theodore Point, south of Massacre Bay. A temporary base camp was established at Baxter Cove, 2.5 miles east of the station, the only place where equipment could be offloaded near the site. Tents, a mess hut, and a Loran transmitting equipment storage hut were erected, and a large CAT began construction of the switchback road to the ridge top site. The road became known as Hooligan Highway and was one of the engineering wonders of Attu. An account by Lt. Cmdr. Yates indicates that in the first five hundred feet of road construction at Baxter Cove, the CAT cut through an Aleutian cemetery located under a dummy gun emplacement that the Japanese had abandoned a few months earlier. The construction work turned up “human skulls and bones of prehistoric animals which had been in turn, buried deep below ivory trinkets and tons of bird and fish bones.” In 1949, the LORAN Station was moved to Murder Point, closer to Massacre Bay.

The skull was transferred into the custody of the Yale University Peabody Museum in 1955 (Catalog No. ANTPA.000227), where it remained until 2014, when it was returned to the Department of the Navy, NAVFAC Northwest, to facilitate its repatriation.

The skull is represented by a nearly complete cranium and mandible belonging to a young female, aged 15 to 19 years. The dental wear, eruption and mandibular morphology are consistent with the mandible belonging with the cranium. There is damage to the ethmoid and the nasal conchae, with the inferior nasal conchae completely absent. The vomer is present but disarticulated. The sphenoid and right temporal show some postmortem damage. The zygomatic process of the right temporal is missing, as is the right mastoid; the left mastoid process is damaged but mostly present. The mandible is missing the condyles, the right mandibular angle, and its coronoid process. Most of the molars are present, but the incisors and canines were lost post-mortem.

The individual's age is based upon the unerupted third molars, unfused basal synchondrosis, and incomplete closure of the incisive suture of the palate. There is no clear evidence of chronic or acute health issues. The skull does reveal a small healed, depressed fracture located on the right parietal. The color and condition of the human remains suggests superficial interment with subsequent or partial exposure. Metric and nonmetric data support ethnic identification as Native American/Indigenous Alaska with closest affinity to females sampled from Wales, AK (Southeastern mainland; Aronsen and Kirkham 2014). No known individuals are identified. No funerary objects are associated with the human remains.

Radiocarbon dates from archeological sites on Attu Island reveal that the island was inhabited between 100 and 2000 years ago (Lefevre et al. 2001). The Department of the Navy has determined that the human remains are affiliated with the Unangax/Aleut people because they have a long history of living on the Aleutian Islands, including the island of Attu. When the 20th century Native Village of Attu at Chichagof Harbor was occupied by the Japanese in 1942, the Native inhabitants were removed to Japan. The village was not re-occupied after the war; its remaining inhabitants settling on Atka Island, the closest settlement to Attu Island (Aleut Repatriation Commission and Cultural Heritage Director, 2002).

Determinations Made by the Department of the Navy

Officials of the Department of the Navy have determined that:

• Pursuant to 25 U.S.C. 3001(9), the human remains described in this notice represent the physical remains of one individual of Native American ancestry.

• Pursuant to 25 U.S.C. 3001(2), there is a relationship of shared group identity that can be reasonably traced between the Native American human remains and Members of the Village of Atka, AK.

Additional Requestors and Disposition

Lineal descendants or representatives of any Indian tribe or Native Hawaiian organization not identified in this notice that wish to request transfer of control of these human remains should submit a written request with information in support of the request to Dr. Susan S. Hughes, Department of the Navy NAVFAC NW, 1101 Tautog Circle, Silverdale, WA 98315, telephone (360) 396-0083, email susan.s.hughes@navy.mil, by March 21, 2016. After that date, if no additional requestors have come forward, transfer of control of the human remains to the Native Village of Atka, AK, may proceed.

The Department of the Navy is responsible for notifying the Native Village of Atka, AK, through its agents, that this notice has been published.

Dated: January 20, 2016.
David Tarler,
Acting Manager, National NAGPRA Program.

[FR Doc. 2016-03408 Filed 2-17-16; 8:45 am]

BILLING CODE 4312-50-P